ENVIRONMENTAL PROTECTION AGENCY

[ER-FRL-6645-2]

Environmental Impact Statements; Notice of Availability

Responsible Agency: Office of Federal Activities, General Information (202) 564-7167 or http://www.epa.gov/compliance/NEPA.

Weekly receipt of Environmental Impact Statements

Filed October 27, 2003 Through October 31, 2003

Pursuant to 40 CFR 1506.9.

EIS No. 030497, Draft EIS, NOA, GA, Gray's Reef National Marine Sanctuary Draft Management Plan (DMP), Address Current Resource Conditions and Compatible Multiple Uses, Located 17.5 Nautical mile off Sapelo Island, GA, Comment Period Ends: December 31, 2003, Contact: Reed Bohne (912) 598-2345. The above NOA EIS should have appeared in the 10/31/2003 Federal Register. The 60-day Comment Period is Calculated from 10/31/2003.

EIS No. 030498, Final EIS, NPS, AZ, Navajo National Monument, General Management Plan and Development Concept Plan, Implementation, Navajo Counties, AZ, Wait Period Ends: December 8, 2003, Contact: Rosemari Knoki (928) 672-2700.

EIS No. 030499, Final EIS, AFS, CA, Spalding Land Exchange Project, Proposed Land Exchange between Spalding Community Service District (SCSD) and Lassen National Forest (LNF), Special Use Permit, Lassen County, CA, Wait Period End: December 8, 2003, Contact: Lois Charlton (530) 257-2151.

EIS No. 030500, Draft EIS, FRA, MD, Baltimore-Washington Maglev Project, To Provide High-speed, State-of-the-Art Transportation from Union-Station in Washington, DC to Camden Yards in Baltimore, MD and Station at BWI Airport, Maglev Deployment Program (MDP), Baltimore, Prince George's, Anne Arundel, MD and DC, Comment Period Ends: January 30, 2004, Contact: David Valenstein (202) 493-6368.

This document is available on the Internet at: http://www.bwmaglev.com.

EIS No. 030501, Draft EIS, IBR, CA, Lake Berryessa Visitor Services Plan, Future Use and Operation, Solano Project Lake Berryessa, Napa County, CA, Comment Period Ends: February 4, 2004, Contact: Stephen Rodgers (707) 966-2111.

EIS No. 030502, Draft EIS, FRC, AK, Glacier Bay National Park and Preserve, Falls Creek Hydroelectric Project (FERC. NO. 11659) and Land Exchange Project, Issuance of License and Land Exchange, Kahtaheena River (Falls Creek) near Gustavus in Southeastern, AK, Comment Period Ends: January 6, 2004, Contact: Robert Easton (202) 502-6045. This document is available on the Internet at: http://www.ferc.gov.

EIS No. 030503, Draft EIS, AFS, WY, Woodrock Project, Proposal for Timber Sale, Travel Management and Watershed Restoration, Implementation, Bighorn National Forest, Tongue Ranger District, Sheridan County, WY, Comment Period Ends: January 9, 2004, Contact: Scott Hill (307) 674-2600.

This document is available on the Internet at: http://www.fs.fed.us/r2/bighorn/.

EIS No. 030504, Final EIS, AFS, WI, Hoffman-Sailor West Project, Timber Harvest, Regeneration Activities, Connected Road Construction and Decommissioning, Chequamegon-Nicolet National Forest, Medford/Park Falls Ranger District, Price County, WI, Wait Period Ends: December 8, 2003, Contact: Jane Darnell (715) 748-4875.

EIS No. 030505, Draft EIS, NRS, ID, Little Wood River Irrigation District, Gravity Pressurized Delivery System, Construction, U.S. Army COE Section 404 Permit, in the Township of 1 North, 1 South and 2 South of Range 21 East of the Boise Merridan, City of Carey, Blaine County, ID, Comment Period Ends: December 22, 2003, Contact: Richard Sims (208) 378-5700.

EIS No. 030506, Draft Supplement, FTA, VA, Dulles Corridor Rapid Transit Project, Additional Information Provide to Assist Decision-Makers, Business Community and Area Residents for Evaluation, High Quality and High-Capacity Transit Service in the Dulles Corridor, West Falls Church Metrorail Station in Fairfax County to the vicinity of Route 772 in Loudoun County, VA, Comment Period Ends: December 29, 2003, Contact: Karl Rohrer 1 (888) 566-7245.

Amended Notices

EIS No. 030417, Draft EIS, AFS, NM, Surface Management of Gas Leasing and Development in the Carson National Forest, Implementation, Jicarilla Ranger District, Rio Arriba County, NM, Comment Period Ends: January 2, 2004, Contact: Tom Dwyer (505) 758-6272.

Revision of FR Notice Published on 9/19/03: CEQ Comment Period Ending 11/03/2003 has been Extended to 1/2/2004.

Dated: November 4, 2003.
Joseph C. Montgomery,
Director, NEPA Compliance Division, Office of Federal Activities.

[FR Doc. 03-28107 Filed 11-6-03; 8:45 am]

BILLING CODE 6560-50-P